NATIONAL SCIENCE FOUNDATION

Agency Information Collection Activities: Comment Request; NSF Small Business Innovation Research (SBIR) Program Phase I and Small Business Technology Transfer (STTR) Program Phase I Presubmission Project Pitch Form

AGENCY: National Science Foundation.

ACTION: Notice.

SUMMARY: The National Science Foundation (NSF) is announcing plans to establish this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 30, 2021 to be assured consideration. Comments received after that date will be considered to the extent practicable. Send comments to address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: NSF Small Business Innovation Research (SBIR) Program Phase I and Small Business Technology Transfer (STTR) Program Phase I Presubmission Project Pitch Form.

OMB Control No.: 3145-New.

Expiration Date of Approval: Not applicable.

Abstract: The NSF Small Business Innovation Research Program (SBIR) Phase I and Small Business Technology Transfer Program (STTR) Phase I Project Pitch is the new NSF SBIR/STTR pre-submission process that conveys information needed to direct the proposed SBIR/STTR project to the appropriate NSF Program Director (PD) for review and possible proposal submission invitation. This Project Pitch is to be submitted by the applying small business (as “proposer”) to the relevant NSF SBIR/STTR Phase I technology topic. The Project Pitch outlines solicitation-specific aspects of the project (such as the proposed technology innovation and project objectives with associated level of technical risk). In the past, this Project Pitch (previously referred to as the Executive Summary) was an optional submission via email as an attached two to three-page (maximum) document and was often in varying formats or missing some parts of the required document elements, which in turn caused delays or additional corrections on behalf of the proposer. The NSF SBIR/STTR Phase I Project Pitch form captures the same requested information, as outlined in the NSF SBIR/STTR Phase I Program solicitation, but all within one secure, web-based form. In specific, the form collects submitting proposer company and team information; the proposed technology innovation; the technical objectives and challenges; and the market opportunity. The form also allows the proposer to choose (from a drop-down menu) the most relevant NSF SBIR/STTR Phase I technical topic area, ensuring that the submitted Project Pitch goes to the most appropriate Program Director.

Respondents: Small businesses who submit proposals to NSF's SBIR/STTR Phase I Program.

Estimated Number of Annual Respondents: 2000.

Burden on the Public: 2 hours (per response) for an annual total of 4000 hours.

Dated: September 28, 2021.
Suzanne H. Plimpton,
Reports Clearance Officer, National Science Foundation.

[FR Doc. 2021-21438 Filed 9-30-21; 8:45 am]

BILLING CODE 7555-01-P